ENVIRONMENTAL PROTECTION AGENCY

[ER-FRL-8999-1]

Environmental Impacts Statements; Notice of Availability

Responsible Agency: Office of Federal Activities, General Information (202) 564-1399 or http://www.epa.gov/compliance/nepa/.

Weekly receipt of Environmental Impact Statements

Filed 09/05/2011 Through 09/09/2011

Pursuant to 40 CFR 1506.9.

Notice

Section 309(a) of the Clean Air Act requires that EPA make public its comments on EISs issued by other Federal agencies. EPA's comment letters on EIS are available at: http://www.epa.gov/compliance/nepa/eisdata.html.

EIS No. 20110306, Draft EIS, USFS, CA, Johnny O'Neil Late Successional Reserve Habitat Restoration and Fuel Reduction Project, Proposal to Retain and Promote the Development of Late Successional Habitat and Reduce the Risk of Large, High Severity Wildfire, Happy Camp and Oak Knoll Ranger District, Klamath National Forest, Siskiyou County, CA, Comment Period Ends: 10/31/2011, Contact: Timothy Burnett 530-493-1767.

EIS No. 20110307, Draft EIS, BLM, CO, Colorado River Valley (formerly known as Glenwood Springs) Resource Management Plan, Implementation, Colorado River Valley Field Office, Portions of Eagle, Garfield, Mesa, Ritkin, and Routt Counties, CO, Comment Period Ends: 12/14/2011, Contact: John Russell 970-876-9025.

EIS No. 20110308, Final EIS, USFS, WY, Livestock Grazing and Vegetation Management on Five Project Area, Proposes to Continue to Authorize Livestock Grazing, Tongue, Medicine Wheel/Paintrock, and Power River Districts of the Bighorn National Forest, Johnson, Sheridan, Big Horn and Washakie Counties, WY, Review Period Ends: 10/17/2011, Contact: Laurie Walters-Clark 307-674-2627.

EIS No. 20110309, Draft EIS, BLM, CO, Kremmling Resource Management Plan, To Provide a Framework of Multiple-Use and Sustained Yield Management, in North-Central, CO, Comment Period Ends: 12/14/2011, Contact: Angela Glenn 303-239-3936.

EIS No. 20110310, Final EIS, FERC, WA, Boundary Hydroelectric Project, Application for Hydroelectric License, FERC Project No. 2144-038 and Sullivan Creek Project, Application for Surrender of Hydropower FERC Project No. 2225-015, Pend Oreille County, WA, Review Period Ends: 10/17/2011, Contact: Leonard Tao 1-866-208-3372.

EIS No. 20110311, Draft EIS, FERC, 00, New Jersey-New York Expansion Project, Propose to Modify and Expand their Existing Natural Gas Transmission Pipeline Systems in New Jersey, New York, and Connecticut, Comment Period Ends: 10/31/2011, Contact: Leonard Tao 1-866-208-3372.

EIS No. 20110312, Draft EIS, NOAA, IL, Illinois Coastal Management Program, To Preserve, Protect, Restore, and Where Possible, Enhance Coastal Resources in Illinois, Comment Period Ends: 10/31/2011, Contact: Diana K. Olinger 301-563-1149.

EIS No. 20110313, Draft EIS, BR, CA, Joint Operations Center (JOC) Relocation Project, Propose to Construct and Operate the Permanent JOC as a Replacement Facility for their Current Operations on EL Camino Avenue, Sacramento County, CA, Comment Period Ends: 11/07/2011, Contact: Doug Kleinsmith 916-978-5034.

EIS No. 20110314, Draft EIS, DHS, 00, PROGRAMMATIC—Northern Border Activities Program, Propose to Enhance its Program of Security along the United States' Northern Border with Canada, from Maine to Washington, Comment Period Ends: 10/31/2011, Contact: Jennifer Hass 202-344-1929,

Amended Notices

EIS No. 20110214, Draft Supplement, USFS, ND, North Billings County Allotment Management Plan Revisions, Updated Information, Proposes to Continue to Permit Livestock Grazing on 43 Allotments, Medora Ranger District, Dakota Prairie Grasslands, Billings County, ND, Comment Period Ends: 09/21/2011, Contact: Nickole Dahl 701-227-7800.

EIS No. 20110240, Draft EIS, NPS, AK, Denali Park Road and Preserve, Draft Vehicle Management Plan, Implementation, AK, Comment Period Ends: 10/31/2011, Contact: Miriam Valentine 907-733-9102. Revision to FR Notice Published 07/29/2011: Extending Comment Period from 09/30/2011 to 10/31/2011.

EIS No. 20110303, Final EIS, FTA, CA, Crenshaw Transit Corridor Project, Proposes to Improve Transit Services, Funding, Los Angeles County Metropolitan Transportation Authority (LACMTA), Los Angeles County, CA, Review Period Ends: 10/11/2011, Contact: Ray Tellis 213-202-3956. The above FTA EIS should have appeared in the 09/09/2011 Federal Register. The 30-Day Review Period is Calculated from 09/09/2011.

Dated: September 13, 2011.
Cliff Rader,
Acting Director, NEPA Compliance Division, Office of Federal Activities.

[FR Doc. 2011-23828 Filed 9-15-11; 8:45 am]

BILLING CODE 6560-50-P